DEPARTMENT OF ENERGY

10 CFR Parts 430 and 431

[Docket Number EERE-2011-BT-NOA-0038]

Energy Conservation Program: Treatment of “Smart” Appliances in Energy Conservation Standards and Test Procedures

AGENCY: Office of Energy Efficiency and Renewable Energy, Department of Energy.

ACTION: Notice of extension of public comment period.

SUMMARY: This document announces that the period for submitting comments on the request for information on “smart” appliances is extended to September 30, 2011. DOE seeks information and comments related to the analytical treatment of “smart” appliances in the development of DOE's energy conservation standards, as well as in test procedures used to demonstrate compliance with DOE's standards and qualification as an ENERGY STAR product.

DATES: The U.S. Department of Energy (DOE) will accept comments, data, and information regarding the request for information on “smart” appliances published August 5, 2011 (76 FR 47518) if they are received no later than September 30, 2011.

ADDRESSES: Any comments submitted must identify the request for information on “smart” appliances and provide docket number EERE-2011-BT-NOA-0038. Comments may be submitted using any of the following methods:

• Federal eRulemaking Portal: http://www.regulations.gov. Follow the instructions for submitting comments.

• E-mail: SmartApplianceRFI-2011-NOA-0038@ee.doe.gov. Include docket number EERE-2011-BT-NOA-0038 in the subject line of the message. Submit electronic comments in WordPerfect, Microsoft Word, PDF, or ASCII file format and avoid the use of special characters or any form of encryption.

• Postal Mail: Ms. Brenda Edwards, U.S. Department of Energy, Building Technologies Program, Mailstop EE-2J, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., 6th Floor, Washington, DC 20024. Please submit one signed original paper copy.

Docket: For access to the docket to read background documents or comments received, please call Ms. Brenda Edwards at the above telephone number for additional information.

FOR FURTHER INFORMATION CONTACT: Requests for additional information may be sent to Ms. Ashley Armstrong, U.S. Department of Energy, Office of Energy Efficiency and Renewable Energy, Building Technologies Program, EE-2J, 1000 Independence Avenue, SW., Washington, DC 20585-0121. Telephone: 202-586-6590. E-mail: Ashley.Armstrong@ee.doe.gov.

In the Office of the General Counsel, contact Ms. Elizabeth Kohl, U.S. Department of Energy, 1000 Independence Ave., SW., Room 6A-179, Washington, DC 20585. Telephone: 202-586-7796; E-mail: Elizabeth.Kohl@hq.doe.gov.

SUPPLEMENTARY INFORMATION: On August 5, 2011, DOE published a request for information (RFI) in the Federal Register (76 FR 47518) to request information on the treatment of “smart” appliances in the development of DOE's energy conservation standards, as well as in test procedures used to demonstrate compliance with DOE's standards and qualification as an ENERGY STAR product. The RFI provided for the submission of comments by September 6, 2011. Commenters requested an extension of the comment period given the Labor Day holiday and in order to have additional time to prepare and submit their comments. DOE has determined that an extension of the public comment period is appropriate based on the foregoing reasons and is hereby extending the comment period. DOE will consider any comments received by September 30, 2011 and deems any comments received between September 6, 2011 and September 30, 2011 to be timely submitted.

Further Information on Submitting Comments

Under 10 CFR 1004.11, any person submitting information that he or she believes to be confidential and exempt by law from public disclosure should submit two copies: One copy of the document including all the information believed to be confidential, and one copy of the document with the information believed to be confidential deleted. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC, on September 2, 2011.
Kathleen B. Hogan,
Deputy Assistant Secretary for Energy Efficiency, Office of Technology Development, Energy Efficiency and Renewable Energy.

[FR Doc. 2011-23237 Filed 9-9-11; 8:45 am]

BILLING CODE 6450-01-P